DEPARTMENT OF AGRICULTURE

Animal and Plant Health Inspection Service

7 CFR Part 319

[Docket No. APHIS-2006-0129]

RIN 0579-AC32

Wood Packaging Material; Treatment Modification

AGENCY: Animal and Plant Health Inspection Service, USDA.

ACTION: Affirmation of interim rule as final rule.

SUMMARY: We are adopting as a final rule, without change, an interim rule that amended the regulations for the importation of unmanufactured wood articles to bring the methyl bromide treatment schedule into alignment with current international phytosanitary standards. The interim rule was necessary because international phytosanitary standards had changed, and our regulations needed to be updated to reflect the current standards.

DATES: Effective on February 7, 2008, we are adopting as a final rule the interim rule published at 72 FR 30460-30462 on June 1, 2007.

FOR FURTHER INFORMATION CONTACT: Mr. John T. Jones, II, Forestry Products Trade Director, PPQ, APHIS, 4700 River Road Unit 140, Riverdale, MD 20737-1236; (301) 734-8860.

SUPPLEMENTARY INFORMATION:

Background

In an interim rule ¹ effective and published in the Federal Register on June 1, 2007 (72 FR 30460-30462, Docket No. APHIS-2006-0129), we amended the regulations for the importation of unmanufactured wood articles to bring the methyl bromide treatment schedule into alignment with current international phytosanitary standards.

¹ To view the interim rule and the comment we received, go to http://www.regulations.gov/fdmspublic/component/main?main=DocketDetail&d=APHIS-2006-0129.

Comments on the interim rule were required to be received on or before July 31, 2007. We received one comment by that date, from a State agriculture department. The commenter stated that methyl bromide treatments do not control deep wood insects, but did not provide any evidence to support that assertion. The commenter also stated that more effective treatments should be required, but did not offer any suggestions for such treatments.

We agree that the methyl bromide treatment standards adopted in the interim rule would be inappropriate for the treatment of logs or large pieces of lumber. However, these standards apply specifically to wood packaging materials, such as pallets, crating, and boxes, which are typically made of stock ½-inch to 3 inches in thickness. Research has demonstrated that fumigation of wood packaging material in accordance with these standards will be sufficient to penetrate wood stock of the sizes typically used for wood packaging materials and will provide an appropriate level of phytosanitary protection. We are making no changes to the interim rule in response to this comment.

Therefore, for the reasons given in the interim rule and in this document, we are adopting the interim rule as a final rule without change.

This action also affirms the information contained in the interim rule concerning Executive Orders 12866 and 12988 and the Paperwork Reduction Act.

Further, this action has been determined to be not significant for the purposes of Executive Order 12866 and, therefore, has not been reviewed by the Office of Management and Budget.

Regulatory Flexibility Act

In accordance with 5 U.S.C. 604, we have performed a final regulatory flexibility analysis, which is set out below, regarding the economic effects of this rule on small entities.

We invited the public to comment on the potential effects of the interim rule on small entities, in particular the number and kind of small entities that may incur benefits or costs from the implementation of the interim rule. However, we did not receive any additional information or data in response to those requests.

The rule affects foreign exporters of goods that are shipped using wood packaging materials. No U.S. entities involved in the production or supply of unmanufactured wood packaging materials are expected to be negatively affected by the rule because the revised treatment must occur in the country of origin. The impact on foreign entities is not expected to be large because only the treatment time and concentration reading have been changed; the methyl bromide dosage rate remains the same. It is possible that some foreign entities might pass on additional treatment costs, if any, to U.S. buyers.

The rule has no mandatory reporting, recordkeeping, or other compliance requirements for U.S. entities, other than the requirements that normally pertain to commodity importation. APHIS has not identified any duplication, overlap, or conflict of the interim rule with other Federal rules.

We do not foresee the rule having a significant economic impact on small entities, and therefore have not proposed significant alternatives to minimize impacts. The rule simply aligns the U.S. methyl bromide treatment requirements for wood packaging materials with the standards established by the International Plant Protection Convention. The rule benefits the United States by reducing the risk of introduction of pests via unmanufactured wood packaging materials. It may impact foreign exporters of goods to the United States who use unmanufactured wood packaging materials, which in turn may affect importers of these goods. However, cost increases, if any, due to the revised treatment requirements are not expected to significantly affect domestic entities and thus will not have a measurable impact on the flow of trade.

List of Subjects in 7 CFR Part 319

Coffee, Cotton, Fruits, Imports, Logs, Nursery stock, Plant diseases and pests, Quarantine, Reporting and recordkeeping requirements, Rice, Vegetables.

PART 319—FOREIGN QUARANTINE NOTICES

Accordingly, we are adopting as a final rule, without change, the interim rule that amended 7 CFR part 319 and that was published at 72 FR 30460-30462 on June 1, 2007.

Done in Washington, DC, this 1st day of February 2008.
Kevin Shea,
Acting Administrator, Animal and Plant Health Inspection Service.

[FR Doc. E8-2262 Filed 2-6-08; 8:45 am]

BILLING CODE 3410-34-P